DEPARTMENT OF ENERGY

Federal Energy Regulatory Commission

Notice of Commission Staff Attendance

The Federal Energy Regulatory Commission hereby gives notice that members of the Commission's staff may attend the following meeting held by the Organization of PJM States, Inc. (OPSI):

OPSI's Eighth Annual Meeting

October 1-3, 2012, 8:45 a.m.-5 p.m., Local Time.

The W Chicago City Center Hotel, 172 W. Adams Street, Chicago, IL 60603.

Further information may be found at http://www.opsi.us/annual_meetings.html

The discussions at the meeting described above may address matters at issue in the following proceedings:

Docket No. EL05-121, PJM Interconnection, L.L.C.

Docket No. EL07-56, Allegheny Electric Cooperative, Inc., et al,. v. PJM Interconnection, L.L.C.

Docket No. EL07-58, Organization of PJM States, Inc., et al., v. PJM Interconnection, L.L.C.

Docket No. EL08-14, Black Oak Energy LLC, et al., v. FERC

Docket No. EL10-52, Central Transmission, LLC v. PJM Interconnection, L.L.C.

Docket No. EL12-45, PJM Interconnection, L.L.C.

Docket No. EL12-50, First Energy Solutions Corporation et al., v. PJM Interconnection, L.L.C.

Docket No. EL12-54, Viridity Energy, Inc. v. PJM Interconnection, L.L.C.

Docket No. EL12-69, Primary Power LLC v. PJM Interconnection, L.L.C.

Docket No. EL12-8, DC Energy, L.L.C. and DC Energy Mid-Atlantic, L.L.C. vs. PJM Interconnection, L.L.C.

Docket No. AD12-1 and ER11-4081, Midwest Independent Transmission System Operator, Inc.

Docket No. ER09-1063, PJM Interconnection, L.L.C.

Docket No. ER09-1148, PPL Electric Utilities Corporation

Docket No. ER09-1256, Potomac-Appalachian Transmission Highline, L.L.C.

Docket No. ER09-1589, FirstEnergy Service Company

Docket Nos. ER10-253 and EL10-14, Primary Power, L.L.C.

Docket No. ER10-549, PJM Interconnection, L.L.C.

Docket No. ER11-1844, Midwest Independent Transmission System Operator, Inc.

Docket Nos. ER11-2814 and ER11-2815, PJM Interconnection, L.L.C. and American Transmission Systems, Inc.

Docket Nos. ER11-2875 and EL11-20, PJM Interconnection, L.L.C.

Docket No. ER11-4106, PJM Interconnection, L.L.C.

Docket No. ER11-4628, PJM Interconnection, L.L.C.

Docket No. ER12-1173, PJM Interconnection, L.L.C., et. al.

Docket No. ER12-1177, PJM Interconnection, L.L.C.

Docket No. ER12-1178, PJM Interconnection, L.L.C.

Docket No. ER12-1204, PJM Interconnection, L.L.C.

Docket No. ER12-1761, PJM Interconnection, L.L.C.

Docket No. ER12-2080, GenOn Power Midwest, LP

Docket No. ER12-2085, PJM Interconnection, L.L.C.

Docket No. ER12-2260, New York Independent System Operator, Inc

Docket No. ER12-2262, PJM Interconnection, L.L.C.

Docket No. ER12-2274, Public Service Electric and Gas Company

Docket No. ER12-2391, PJM Interconnection, L.L.C.

Docket No. ER12-2399, PJM Interconnection, L.L.C.

Docket No. ER12-2417, PJM Interconnection, L.L.C.

Docket No. ER12-2440, PJM Interconnection, L.L.C.

Docket No. ER12-2442, PJM Interconnection, L.L.C.

Docket No. ER12-2469, PJM Interconnection, L.L.C.

Docket No. ER12-2486, PJM Interconnection, L.L.C.

Docket No. ER12-2518, PJM Interconnection, L.L.C.

Docket No. ER12-2527, PJM Interconnection, L.L.C.

Docket No. ER12-2550, PJM Interconnection, L.L.C.

Docket No. ER12-2574, PJM Interconnection, L.L.C.

Docket No. ER12-2594, PJM Interconnection, L.L.C.

Docket No. ER12-2599, PJM Interconnection, L.L.C.

Docket No. ER12-2604, PJM Interconnection, L.L.C.

Docket No. ER12-2606, PJM Interconnection, L.L.C.

Docket No. ER12-2610, PJM Interconnection, L.L.C.

Docket No. ER12-2616, PJM Interconnection, L.L.C.

Docket No. ER12-2624, PJM Interconnection, L.L.C.

Docket No. ER12-2661, PJM Interconnection, L.L.C.

Docket No. ER12-2663, PJM Interconnection, L.L.C.

Docket No. ER12-2664, PJM Interconnection, L.L.C.

Docket No. ER12-2671, PJM Interconnection, L.L.C.

Docket No. ER12-2688, PJM Interconnection, L.L.C.

Docket No. ER12-469, PJM Interconnection, L.L.C.

Docket No. ER12-513, PJM Interconnection, L.L.C.

Docket No. ER12-718, New York Independent System Operator, Inc.

Docket No. ER12-91, PJM Interconnection, L.L.C.

Docket No. ER12-92, PJM Interconnection, L.L.C.

Docket Nos. ER11-2183 and EL11-32, American Electric Power Service Corporation

For more information, contact Valerie Martin, Office of Energy Market Regulation, Federal Energy Regulatory Commission at (202) 502-6139 or Valerie.Martin@ferc.gov.

Dated: September 28, 2012.
Kimberly D. Bose,
Secretary.

[FR Doc. 2012-24566 Filed 10-4-12; 8:45 am]

BILLING CODE 6717-01-P